DEPARTMENT OF LABOR

Employment and Training Administration

[TA-W-39,588]

Motorola, Inc., iDEN Subscriber Division Including Leased Workers of Manpower International, Plantation, Florida; Amended Certification Regarding Eligibility To Apply for Worker Adjustment Assistance

In accordance with section 223 of the Trade Act of 1974 (19 U.S.C. 2273) the Department of Labor issued a Certification of Eligibility to Apply for Worker Adjustment Assistance on July 23, 2001, applicable to workers of Motorola, Inc., iDEN Subscriber Div., Plantation, Florida. The notice was published in the Federal Register on August 15, 2001 (66 FR 42880).

At the request of the petitioners, the Department reviewed the certification for workers of the subject firm. Information provided by the company shows that leased workers of Manpower International were employed at Motorola, Inc., iDEN Subscriber Div. to produce radios and printed circuit boards (for iDEN Radio units) at the Plantation, Florida location of the subject firm.

Based on these findings, the Department is amending this certification to include leased workers of Manpower International, employed at Motorola, Inc., iDEN Subscriber Div. Corporation, Plantation, Florida.

The intent of the Department's certification is to include all workers of Motorola, Inc., iDEN Subscriber Div. who were adversely affected by increased imports.

The amended notice applicable to TA-W-39,588 is hereby issued as follows:

All workers of Motorola, Inc., iDEN Subscriber Div., Plantation, Florida, including leased workers of Manpower International, who were engaged in production of radios and printed circuit boards (for iDEN Radio units) at Motorola, Inc., iDEN Subscriber Div., Plantation, Florida, who became totally or partially separated from employment on or after June 27, 2000, through July 23, 2003, are eligible to apply for adjustment assistance under section 223 of the Trade Act of 1974.

Signed at Washington, DC, this 14th day of May 2003.
Richard Church,
Certifying Officer, Division of Trade Adjustment Assistance.

[FR Doc. 03-15864 Filed 6-23-03; 8:45 am]

BILLING CODE 4510-30-P